DEPARTMENT OF HEALTH AND HUMAN SERVICES

Administration for Children and Families

Proposed Information Collection Activity; OCSE Stafford Act Flexibilities Request Form (New Collection)

AGENCY: Office of Child Support Enforcement, Administration for Children and Families, HHS.

ACTION: Request for Public Comment.

SUMMARY: The Office of Child Support Enforcement (OCSE), Administration for Children and Families (ACF), U.S. Department of Health and Human Services (HHS), seeks approval of a standardized request form to collect information from state and tribal title IV-D child support agencies requesting administrative flexibilities under the Robert T. Stafford Disaster Relief and Emergency Assistance Act (the “Stafford Act”), due to the COVID-19 pandemic.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Due to the exceptional impact of the COVID-19 pandemic, state and tribal agencies operating child support programs under title IV-D of the Social Security Act have faced significant operational and other challenges in providing critical child support services to families. Section 301 of the Stafford Act, 42 U.S.C. 5141, provides that “Any Federal agency charged with the administration of a Federal assistance program may, if so requested by the applicant State [or Indian tribal government] or local authorities, modify or waive, for a major disaster, such administrative conditions for assistance as would otherwise prevent the giving of assistance under such programs if the inability to meet such conditions is a result of the major disaster.” To communicate that child support agencies may request relief under the Stafford Act, on May 28, 2020, OCSE published Dear Colleague Letter 20-04: Flexibilities for State and Tribal Child Support Agencies during COVID-19 Pandemic. OCSE seeks approval of a standardized request form to collect information from state and tribal IV-D agencies requesting Stafford Act administrative flexibilities, due to the COVID-19 pandemic and according to OCSE Dear Colleague Letter 20-04.

Respondents: State and tribal agencies administering a child support program under title IV-D of the Social Security Act.

Annual Burden Estimates

Instrument | Total Number of respondents | Total Number of responses per respondent | Average burden hours per response | Total burden hours | Annual burden hours
OCSE Stafford Act Flexibilities Request Form | 114 | 3 | 1 | 342 | 114

Estimated Total Annual Burden Hours: 114

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 5141.

Mary B. Jones,
ACF/OPRE Certifying Officer.

[FR Doc. 2020-24592 Filed 11-4-20; 8:45 am]

BILLING CODE 4184-41-P